FEDERAL MINE SAFETY AND HEALTH REVIEW COMMISSION

Meeting; Sunshine Act

March 20, 2009.

Time and Date: 10 a.m., Thursday, March 26, 2009.

Place: The Richard V. Backley Hearing Room, 9th Floor, 601 New Jersey Avenue, NW., Washington, DC.

Status: Open.

Matters To Be Considered: The Commission will consider and act upon the following in open session: Peter J. Phillips v. A&S Construction Co., Docket No. WEST 2008-1057-DM. (Issues include whether, under section 105(c)(2) of the Mine Act, an order of temporary reinstatement remains in effect after the Secretary of Labor has determined, following her investigation, that no unlawful discrimination has occurred.)

Any person attending this meeting who requires special accessibility features and/or auxiliary aids, such as sign language interpreters, must inform the Commission in advance of those needs. Subject to 29 CFR 2706.150(a)(3) and § 2706.160(d).

Contact Person for More Info: Jean Ellen (202) 434-9950/(202) 708-9300 for TDD Relay/1-800-877-8339 for toll free.

[FR Doc. E9-6843 Filed 3-24-09; 11:15 am]

BILLING CODE